ENVIRONMENTAL PROTECTION AGENCY

[FRL-9967-98-OW]

Clean Water Act; Contractor Access to Confidential Business Information

AGENCY: Environmental Protection Agency (EPA).

ACTION: Notice of Intended Transfer of Confidential Business Information to Contractor.

SUMMARY: The Environmental Protection Agency (EPA) intends to transfer confidential business information (CBI) collected from the steam electric power generating industry to ICF International (ICF). Transfer of the information will allow the contractor to support EPA in its reconsideration of effluent limitations guidelines and standards promulgated for the Steam Electric Power Generating Point Source Category on November 3, 2015. The information being transferred was or will be collected under the authority of section 308 of the Clean Water Act (CWA). Interested persons may submit comments on this intended transfer of information to the address noted below.

DATES: Comments on the transfer of data are due September 27, 2017.

ADDRESSES: Comments may be sent to M. Ahmar Siddiqui, Document Control Officer, Engineering and Analysis Division (4303T), U.S. EPA, 1200 Pennsylvania Ave. NW., Washington, DC 20460.

FOR FURTHER INFORMATION CONTACT: M. Ahmar Siddiqui, Document Control Officer, at (202) 566-1044, or via email at siddiqui.ahmar@epa.gov.

SUPPLEMENTARY INFORMATION: EPA has transferred CBI to various contractors and subcontractors over the history of the effluent guidelines program under 40 CFR 2.302(h). EPA determined that this transfer was necessary to enable the contractors and subcontractors to perform their work in supporting EPA in planning, developing, and reviewing effluent guidelines and standards for certain industries.

Today, pursuant to 40 CFR 2.302(h)(2), EPA is giving notice that it will be transferring CBI to ICF (located in Fairfax, VA), which operates under contract number EP-C-16-011. The purpose of this transfer is to support economic analysis support for EPA in its reconsideration of effluent limitations guidelines and standards for the Steam Electric Power Generating Point Source Category established in 2015.

All EPA contractor, subcontractor, and consultant personnel are bound by the requirements and sanctions contained in their contracts with EPA and in EPA's confidentiality regulations found at 40 CFR part 2, subpart B. ICF will adhere to an EPA-approved security plan which describes procedures to protect CBI. ICF will apply the procedures in this plan to CBI previously gathered by EPA and to CBI that may be gathered in the future. The security plan specifies that contractor personnel are required to sign non-disclosure agreements and are briefed on appropriate security procedures before they are permitted access to CBI. No person is automatically granted access to CBI: A need to know must exist.

The information that will be transferred to ICF consists of information previously collected by EPA to support the development of effluent limitations guidelines and standards under the CWA for the Steam Electric Power Generating Point Source Category and any that may be collected in the future under the authority of section 308 of the CWA or voluntarily submitted (e.g., in comments in response to a Federal Register notice), as is necessary to enable ICF to support EPA's reconsideration of the aforementioned effluent limitations guidelines and standards.

Dated: September 8, 2017.
Jeff Lape,
Acting Director, Office of Science and Technology, Office of Water.

[FR Doc. 2017-19930 Filed 9-19-17; 8:45 am]

BILLING CODE 6560-50-P